DEPARTMENT OF AGRICULTURE

Submission for OMB Review; Comment Request

May 4, 2006.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Rural Business-Cooperative Service

Title: 7 CFR 4287-B, Servicing Business and Industry Guaranteed Loans.

OMB Control Number: 0570-0016.

Summary of Collection: The Business and Industry (B&I) program was legislated in 1972 under section 310B of the Consolidated Farm and Rural Development Act, as amended (the Act). The purpose of the B&I program, as authorized by the Act, is to improve economic and environmental climate in rural communities, including pollution abatement and control. This purpose is achieved through bolstering the existing private credit structure through the guaranteeing of quality loans, which will provide lasting community benefits. The B&I program is administered by the Rural Business Service (RBS) through Rural Development State and sub-State offices serving each State. RBS will collect information using various forms from the lender and the borrower. This information is vital for making prudent financial decisions.

Need and Use of the Information: RBS will collect information to monitor the guaranteed loan portfolio to ensure that the lenders are adequately servicing the loans. RBS through its respective Business Programs Divisions in Washington, DC, and its 47 State Offices throughout the United States will be the primary users of the information collected. If the information is not collected, RBS would not be able to make prudent credit decisions nor would the Agency be able to effectively monitor the lender's servicing activities and thus minimize losses under the program.

Description of Respondents: Business or other for-profit; State, local or tribal Government.

Number of Respondents: 12,530.

Frequency of Responses: Reporting: On occasion; Quarterly; Annually.

Total Burden Hours: 18,041.

Rural Business Service-Cooperative Service

Title: 7 CFR 4279-A, Guaranteed Loanmaking General.

OMB Control Number: 0570-0018.

Summary of Collection: The Business and Industry (B&I) program was legislated in 1972 under section 310B of the Consolidated Farm and Rural Development Act, as amended. The purpose of the program is to improve, develop, or finance businesses, industries, and employment and improve the economic and environmental climate in rural communities. This purpose is achieved through bolstering the existing private credit structure through the guaranteeing of quality loans made by lending institutions, thereby providing lasting community benefits. The B&I program is administered by the RBS through Rural Development State and sub-State offices serving each State.

Need and Use of the Information: RBS will collect information to determine eligibility and credit worthiness for a lender or borrower. The information is used by Agency loan officers and approval officials to determine lender program eligibility and for program monitoring.

Description of Respondents: Business or other for-profit; State, local or tribal Government.

Number of Respondents: 1,037.

Frequency of Responses: Reporting: On occasion.

Total Burden Hours: 1,494.

Charlene Parker,
Departmental Information Collection Clearance Officer.

[FR Doc. E6-7065 Filed 5-9-06; 8:45 am]

BILLING CODE 3410-XT-P